DEPARTMENT OF ENERGY

Federal Energy Regulatory Commission

Combined Notice of Filings #1

Take notice that the Commission received the following electric corporate filings:

Docket Numbers: EC19-57-000.

Applicants: The Vanguard Group, Inc., Vanguard Global Advisors, LLC, Vanguard Asset Management, Ltd., Vanguard Investments Australia Ltd., Vanguard Fiduciary Trust Company.

Description: Application for Authorization Under Section 203(1)2) of the Federal Power Act to Acquire Securities of The Vanguard Group, Inc., et al.

Filed Date: 2/15/19.

Accession Number: 20190215-5180.

Comments Due: 5 p.m. ET 3/8/19.

Docket Numbers: EC19-58-000.

Applicants: Crystal Lake Wind II, LLC, Crystal Lake Wind Energy II, LLC.

Description: Application for Authorization Under Section 203 of the Federal Power Act, et al. of Crystal Lake Wind II, LLC, et al.

Filed Date: 2/15/19.

Accession Number: 20190215-5205.

Comments Due: 5 p.m. ET 3/8/19.

Take notice that the Commission received the following exempt wholesale generator filings:

Docket Numbers: EG19-57-000.

Applicants: Coyote Ridge Wind, LLC.

Description: Notice of Self-Certification of Coyote Ridge Wind, LLC.

Filed Date: 2/19/19.

Accession Number: 20190219-5073.

Comments Due: 5 p.m. ET 3/12/19.

Docket Numbers: EG19-58-000.

Applicants: Big Level Wind LLC.

Description: Notice of Self-Certification of Exempt Wholesale Generator Status of Big Level Wind LLC.

Filed Date: 2/19/19.

Accession Number: 20190219-5090.

Comments Due: 5 p.m. ET 3/12/19.

Take notice that the Commission received the following electric rate filings:

Docket Numbers: ER15-1471-009; ER16-915-002; ER15-1672-008; ER10-2861-006; ER13-2169-006; ER16-2010-003; ER11-3634-007; ER10-2977-008; ER12-1308-010; ER16-711-006; ER16-2561-003; ER13-1504-007; ER10-2866-006; ER10-2867-006.

Applicants: Blue Sky West, LLC, Comanche Solar PV, LLC, Evergreen Wind Power II, LLC, Fountain Valley Power, L.L.C., Goal Line L.P., Hancock Wind, LLC, KES Kingsburg, L.P., Mesquite Power, LLC, Palouse Wind, LLC, Pio Pico Energy Center, LLC, Sunflower Wind Project, LLC, SWG Arapahoe, LLC, SWG Colorado, LLC, Valencia Power, LLC.

Description: Notice of Non-Material Change in Status of Blue Sky West, LLC, et al.

Filed Date: 2/15/19.

Accession Number: 20190215-5198.

Comments Due: 5 p.m. ET 3/8/19.

Docket Numbers: ER19-828-000.

Applicants: Solomon Forks Wind Project, LLC.

Description: Supplement to January 17, 2019 Solomon Forks Wind Project, LLC tariff filing.

Filed Date: 1/24/19.

Accession Number: 20190124-5211.

Comments Due: 5 p.m. ET 3/1/19.

Docket Numbers: ER19-1003-000.

Applicants: Crystal Lake Wind Energy II, LLC.

Description: Amendment to February 6, 2019 Crystal Lake Wind Energy II, LLC tariff filing.

Filed Date: 2/15/19.

Accession Number: 20190215-5181.

Comments Due: 5 p.m. ET 3/8/19.

Docket Numbers: ER19-1061-000.

Applicants: Solar Alpine LLC.

Description: Baseline eTariff Filing: Notice of Succession, Revisions to MBR & Request for Administrative Cancellation to be effective 2/16/2019.

Filed Date: 2/15/19.

Accession Number: 20190215-5167.

Comments Due: 5 p.m. ET 3/8/19.

Docket Numbers: ER19-1062-000.

Applicants: Solar Avra Valley LLC.

Description: Baseline eTariff Filing: Notice of Succession, Revisions to MBR & Request for Administrative Cancellation to be effective 2/16/2019.

Filed Date: 2/15/19.

Accession Number: 20190215-5168.

Comments Due: 5 p.m. ET 3/8/19.

Docket Numbers: ER19-1063-000.

Applicants: Solar Borrego I LLC.

Description: Baseline eTariff Filing: Notice of Succession, Revisions to MBR & Request for Administrative Cancellation to be effective 2/16/2019.

Filed Date: 2/15/19.

Accession Number: 20190215-5169.

Comments Due: 5 p.m. ET 3/8/19.

Docket Numbers: ER19-1064-000.

Applicants: The Dayton Power and Light Company.

Description: § 205(d) Rate Filing: DP&L-Haas Facilities Agreement Filing to be effective 4/17/2019.

Filed Date: 2/15/19.

Accession Number: 20190215-5170.

Comments Due: 5 p.m. ET 3/8/19.

Docket Numbers: ER19-1065-000.

Applicants: Midcontinent Independent System Operator, Inc.

Description: § 205(d) Rate Filing: 2019-02-15 Attachment X revisions relative to Generator Replacement to be effective 5/16/2019.

Filed Date: 2/15/19.

Accession Number: 20190215-5171.

Comments Due: 5 p.m. ET 3/8/19.

Docket Numbers: ER19-1066-000.

Applicants: Nevada Power Company.

Description: § 205(d) Rate Filing: OATT Revisions to Tariffs 01/15/19 to be effective 5/1/2019.

Filed Date: 2/19/19.

Accession Number: 20190219-5000.

Comments Due: 5 p.m. ET 3/12/19.

Docket Numbers: ER19-1067-000.

Applicants: Midcontinent Independent System Operator, Inc.

Description: § 205(d) Rate Filing: 2019-02-19_SA 3243 Deuel Harvest Wind-OTP GIA (J526) to be effective 2/6/2019.

Filed Date: 2/19/19.

Accession Number: 20190219-5093.

Comments Due: 5 p.m. ET 3/12/19.

Docket Numbers: ER19-1068-000.

Applicants: PJM Interconnection, L.L.C.

Description: § 205(d) Rate Filing: Original WMPA No. 5289; Queue No. AD2-042 to be effective 1/26/2019.

Filed Date: 2/19/19.

Accession Number: 20190219-5095.

Comments Due: 5 p.m. ET 3/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 19, 2019.
Nathaniel J. Davis, Sr.,
Deputy Secretary.

[FR Doc. 2019-03174 Filed 2-22-19; 8:45 am]

BILLING CODE 6717-01-P